DEPARTMENT OF COMMERCE

International Trade Administration

[A-570-853]

Bulk Aspirin from the People's Republic of China: Final Results of Changed Circumstances Review

AGENCY: Import Administration, International Trade Administration, Department of Commerce.

ACTION: Notice of Final Results of Changed Circumstances Antidumping Duty Administrative Review.

SUMMARY: On August 7, 2002, the Department of Commerce published a notice of preliminary results of its changed circumstances review in bulk aspirin from the People's Republic of China examining whether Jilin Henghe Pharmaceutical is the successor-in-interest to Jilin Pharmaceutical Company Ltd. and Jilin Pharmaceutical Import and Export Corporation. We have now completed the changed circumstances review and determine Jilin Henghe Pharmaceutical to be the successor-in-interest to Jilin Pharmaceutical Company Ltd. and Jilin Pharmaceutical Import and Export Corporation.

EFFECTIVE DATE: October 25, 2002.

FOR FURTHER INFORMATION CONTACT: Julie Santoboni or Cole Kyle, Import Administration, International Trade Administration, U.S. Department of Commerce, 14th Street and Constitution Avenue, NW, Washington, DC 20230; telephone (202) 482-4194 and (202) 482-1503, respectively.

SUPPLEMENTARY INFORMATION:

Applicable Statute

Unless otherwise indicated, all citations to the Tariff Act of 1930, as amended (the “Act”), are references to the provisions effective January 1, 1995, the effective date of the amendments made to the Act by the Uruguay Round Agreements Act. In addition, unless otherwise indicated, all citations to the Department of Commerce's (“the Department's”) regulations are to 19 CFR Part 351 (2001).

Background:

On August 7, 2002, in accordance with Section 751(b) of the Act and 19 CFR 351.216 and 351.221(c)(3), the Department published its preliminary results in the Federal Register, preliminarily finding Jilin Henghe Pharmaceutical (“Jilin Henghe”) to be the successor-in-interest to Jilin Pharmaceutical Company Ltd. and Jilin Pharmaceutical Import and Export Corporation (collectively, “Jilin Pharmaceutical”). We invited interested parties to comment on these findings. No comments were received (see Bulk Aspirin from the People's Republic of China: Preliminary Results of Antidumping Duty Administrative Review and Changed Circumstances Review, 67 FR 51167) (“Preliminary Results”).

Scope of the Review

The product covered by this review is bulk acetylsalicylic acid, commonly referred to as bulk aspirin, whether or not in pharmaceutical or compound form, not put up in dosage form (tablet, capsule, powders or similar form for direct human consumption). Bulk aspirin may be imported in two forms, as pure ortho-acetylsalicylic acid or as mixed ortho-acetylsalicylic acid. Pure ortho-acetylsalicylic acid can be either in crystal form or granulated into a fine powder (pharmaceutical form). This product has the chemical formula C9H8O4. It is defined by the official monograph of the United States Pharmacopoeia 23 (“USP”). It is currently classifiable under the Harmonized Tariff Schedule of the United States (“HTSUS”) subheading 2918.22.1000.

Mixed ortho-acetylsalicylic acid consists of ortho-acetylsalicylic acid combined with other inactive substances such as starch, lactose, cellulose, or coloring materials and/or other active substances. The presence of other active substances must be in concentrations less than that specified for particular nonprescription drug combinations of aspirin and active substances as published in the Handbook of Nonprescription Drugs, eighth edition, American Pharmaceutical Association. This product is currently classifiable under HTSUS subheading 3003.90.0000.

Although the HTSUS subheadings are provided for convenience and customs purposes, the written description of the merchandise under review is dispositive.

Final Results of Review

Because we received no comments on the preliminary results, for the reasons stated in the Preliminary Results and based on the facts on the record, we find Jilin Henghe to be the successor-in-interest to Jilin Pharmaceutical for antidumping duty cash deposit purposes. In order to make this determination, we examined the management structure of Jilin Henghe and Jilin Pharmaceutical, including, but not limited to, financial statements, stock purchase agreements, sales documents and organizational charts. Since the record shows that Jilin Henghe maintained the same management among other things, we determine that Jilin Henghe is the successor-in-interest to Jilin Pharmaceutical.

Jilin Henghe will be assigned the same antidumping duty cash-deposit rate with respect to the subject merchandise as Jilin Pharmaceutical, its predecessor company. This cash deposit requirement will be effective upon publication of this notice of final results of changed circumstances review for all shipments of the subject merchandise entered, or withdrawn from warehouse, for consumption on or after the publication date. This cash deposit rate shall remain in effect until publication of the final results of the next administrative review.

This determination is issued and published in accordance with sections 751(b)(1) and 777(I)(1) of the Act.

Dated: October 18, 2002.
Joseph A. Spetrini,
Acting Assistant Secretary for Import Administration.

[FR Doc. 02-27259 Filed 10-24-02; 8:45 am]

BILLING CODE 3510-DS-S